DEPARTMENT OF THE INTERIOR

Bureau of Indian Affairs

[190A2100DD/AAKC001030/A0A501010.999900 253G]

Final Environmental Impact Statement for the Ho-Chunk Nation Fee-to-Trust and Casino Project, City of Beloit, Rock County, Wisconsin

AGENCY: Bureau of Indian Affairs, Interior.

ACTION: Notice of availability.

SUMMARY: This notice advises the public that the Bureau of Indian Affairs (BIA), as lead agency, with the City of Beloit, Wisconsin Department of Transportation, Ho-Chunk Nation (Nation), and the U.S. Environmental Protection Agency (EPA) serving as cooperating agencies, intends to file a Final Environmental Impact Statement (FEIS) with the EPA in connection with the Nation's application for transfer into trust by the United States of approximately 33 acres for gaming and other purposes in the City of Beloit, Rock County, Wisconsin.

DATES: The Record of Decision for the proposed action will be issued on or after 30 days from the date the EPA publishes its Notice of Availability in the Federal Register. Any comments on the FEIS must arrive on or before that date.

ADDRESSES: You may mail or hand-deliver written comments to Mr. Timothy LaPointe, Regional Director, Bureau of Indian Affairs, Midwest Region, Norman Pointe II Building, 5600 West American Boulevard, Suite 500, Bloomington, Minnesota 55347. Please include your name, return address, and the caption: “FEIS Comments, Ho-Chunk Nation Fee-to-Trust and Casino Project,” on the first page of your written comments. See the SUPPLEMENTARY INFORMATION section of this notice for addresses where the FEIS is available for review.

FOR FURTHER INFORMATION CONTACT: Mr. Timothy Guyah, Archaeologist, Bureau of Indian Affairs, Midwest Region, Norman Pointe II Building, 5600 West American Boulevard, Suite 500, Bloomington, MN 55347; phone: (612) 725-4512; email: timothy.guyah@bia.gov. Information is also available online at www.ho-chunkbeloiteis.com.

SUPPLEMENTARY INFORMATION: The Tribe proposes to develop a casino-hotel resort on approximately 33 acres in the City of Beloit, Rock County, Wisconsin. The BIA published a Notice of Intent to prepare an EIS in the Federal Register on November 26, 2012 (77 FR 70460), and in The Daily News, The Janesville Gazette, and The Rockford Register Star. The BIA held a public scoping meeting on December 13, 2012, at Aldrich Middle School in Beloit, Wisconsin. The BIA published a Notice of Availability for the Draft EIS in the Federal Register on November 9, 2018 (83 FR 56096), and in The Daily News, The Janesville Gazette, and The Rockford Register Star. The BIA held a public hearing for the proposed project on December 11, 2018, at Aldrich Middle School.

Background: The Tribe's proposed project consists of the following components: (1) The Department of the Interior's (Department) transfer of approximately 33 acres from fee to trust status; (2) issuance of a determination by the Secretary of the Interior pursuant to Section 20 of the Indian Gaming Regulatory Act, 25 U.S.C. 2719; and (3) the development of the trust parcel. The proposed casino-hotel resort would include a hotel, convention center, outdoor amphitheater, several restaurant facilities, waterpark, retail buildings, and parking facilities. Access to the project site would be provided via three driveways, one along Willowbrook Road and two along Colley Road. The following alternatives are considered in the FEIS: (1) Proposed Project; (2) Reduced Casino and Commercial Development; (3) Retail Development; and (4) No Action/No Development. The BIA identifies Alternative 1 the Preferred Alternative as discussed in the FEIS.

The information and analysis contained in the FEIS, as well as its evaluation and assessment of the Preferred Alternative, will assist the Department in its review of the issues presented in the fee-to-trust application. The Preferred Alternative does not reflect the Department's final decision because the Department must further evaluate all of the criteria listed in 25 CFR part 151 and 25 CFR part 292. The Department's consideration and analysis of the applicable regulations may lead to a final decision that selects an alternative other than the Preferred Alternative, including no action, or a variant of the Preferred or another of the alternatives analyzed in the FEIS.

Environmental issues addressed in the FEIS include geology and soils, water resources, air quality, biological resources, cultural and paleontological resources, socio-economic conditions (including environmental justice), transportation and circulation, land use, public services, noise, hazardous materials, aesthetics, cumulative effects, and indirect and growth-inducing effects.

Locations Where the FEIS is Available for Review: The FEIS will be available for review at the Beloit Public Library located at 605 Eclipse Blvd., Beloit, Wisconsin 53511, and online at www.ho-chunkbeloiteis.com. To obtain a compact disk copy of the FEIS, please provide your name and address in writing to Mr. Timothy Guyah, Bureau of Indian Affairs, Midwest Regional Office. Contact information is listed in the FOR FURTHER INFORMATION CONTACT section of this notice. Individual paper copies of the FEIS will be provided only upon payment of applicable printing expenses by the requestor for the number of copies requested.

Public Comment Availability: Comments, including names and addresses of respondents, will be available for public review at the BIA address shown in the ADDRESSES section, during regular business hours, 8 a.m. to 4:30 p.m., Monday through Friday, except holidays. Before including your address, phone number, email address, or other personal identifying information in your comment, you should be aware that your entire comment—including your personal identifying information may be made publicly available at any time. While you can ask in your comment that your personal identifying information be withheld from public review, the BIA cannot guarantee that this will occur.

Authority: This notice is published pursuant to Sec. 1503.1 of the Council of Environmental Quality Regulations (40 CFR parts 1500 through 1508) and Sec. 46.305 of the Department of the Interior Regulations (43 CFR part 46), implementing the procedural requirements of the National Environmental Policy Act of l969, as amended (42 U.S.C. 4371, et seq.), and is in the exercise of authority delegated to the Assistant Secretary—Indian Affairs by 209 DM 8.

Dated: May 17, 2019.
Tara Sweeney,
Assistant Secretary—Indian Affairs.

[FR Doc. 2019-11382 Filed 5-30-19; 8:45 am]

BILLING CODE 4337-15-P